DEPARTMENT OF ENERGY

10 CFR Parts 429 and 430

[EERE-2021-BT-TP-0036]

RIN 1904-AF26

Energy Conservation Program: Test Procedure for Air Cleaners

Correction

In rule document 2023-03987, appearing on pages 14014 through 14045 in the issue of Monday, March 6, 2023, on page 14045, in the middle column, make the following correction to paragraph 5.1.2.:

PART 430 ENERGY CONSERVATION PROGRAM FOR CONSUMER PRODUCTS [Corrected]

* * * * *

Appendix FF of Subpart B

* * * * *

5.1.2. PM2.5 CADR may alternately be calculated using the smoke CADR and dust CADR values determined according to sections 5 and 6, respectively, of AHAM AC-1-2020, according to the following equation:

* * * * *

[FR Doc. C1-2023-03987 Filed 8-7-23; 8:45 am]

BILLING CODE 0099-10-P